DEPARTMENT OF ENERGY

Federal Energy Regulatory Commission

[Docket No. CP09-55-000]

Carolina Gas Transmission Corporation; Notice of Request Under Blanket Authorization

February 4, 2009.

Take notice that on January 30, 2009, Carolina Gas Transmission Corporation (Carolina Gas), 601 Old Taylor Road, Cayce, South Carolina 29033, filed in Docket No. CP09-55-000, an application pursuant to sections 157.205 and 157.210 of the Commission's Regulations under the Natural Gas Act (NGA) as amended, to convert an existing compressor unit from standby to base load service, under Carolina Gas' blanket certificate issued in Docket No. CP06-72-000,¹ all as more fully set forth in the application which is on file with the Commission and open to the public for inspection.

¹ 116 FERC ¶ 61,049 (2006).

Carolina Gas proposes to convert an existing standby 1,050 horsepower Solar Saturn turbine compressor unit to base load service at its Grover compressor station near Blacksburg, Cherokee County, South Carolina. Carolina Gas states that converting the standby compressor unit to base load service would allow Carolina Gas to meet shippers' request for an additional 25,000 Dekatherms per day of natural gas service. Carolina Gas also states that it would cost an estimated $413,000 to place the compressor unit into base load service.

Any questions concerning this application may be directed to Samuel L. Dozier, Vice President, Commercial and Field Operations, Carolina Gas Transmission Corporation, 601 Old Taylor Road, Cayce, South Carolina 29033, or via telephone at (803) 217-2234.

This filing is available for review at the Commission or may be viewed on the Commission's Web site at http://www.ferc.gov, using the “eLibrary” link. Enter the docket number excluding the last three digits in the docket number filed to access the document. For assistance, please contact FERC Online Support at FERC OnlineSupport@ferc. gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Kimberly D. Bose,
Secretary.

[FR Doc. E9-2867 Filed 2-10-09; 8:45 am]

BILLING CODE 6717-01-P